DEPARTMENT OF ENERGY

Federal Energy Regulatory Commission

Notice of Filings

Take notice that the Commission has received the following Natural Gas Pipeline Rate and Refund Report filings:

Filings Instituting Proceedings

Docket Numbers: PR15-7-000.

Applicants: Corning Natural Gas Corporation.

Description: Tariff filing per 284.123(b)(1) + (g): 2014 Rates to be effective 11/7/2014; TOFC: 1300.

Filed Date: 11/13/14.

Accession Number: 20141113-5129.

Comments Due: 5 p.m. ET 12/4/14.

284.123(g) Protests Due: 5 p.m. ET 1/12/15.

Docket Numbers: RP15-164-000.

Applicants: Venice Gathering System, L.L.C.

Description: Tariff Withdrawal per 154.205(a): Withdraw Compliance Filing 111014.

Filed Date: 11/14/14.

Accession Number: 20141114-5209.

Comments Due: 5 p.m. ET 11/26/14.

Docket Numbers: RP15-171-000.

Applicants: Destin Pipeline Company, L.L.C.

Description: Compliance filing per 154.203: Auxiliary Installation Reimbursement Fee—Docket No. RP14-1200 to be effective 12/31/9998.

Filed Date: 11/13/14.

Accession Number: 20141113-5144.

Comments Due: 5 p.m. ET 11/25/14.

Docket Numbers: RP15-172-000.

Applicants: Southern Star Central Gas Pipeline, Inc.

Description: § 4(d) rate filing per 154.204: Electronic Contracting Procedures Filing to be effective 12/1/2014.

Filed Date: 11/14/14.

Accession Number: 20141114-5043.

Comments Due: 5 p.m. ET 11/26/14.

Docket Numbers: RP15-173-000.

Applicants: Empire Pipeline, Inc.

Description: § 4(d) rate filing per 154.204: GT&C Section 4.9(c)—Purchase of Operational Gas to be effective 12/14/2015.

Filed Date: 11/14/14.

Accession Number: 20141114-5061.

Comments Due: 5 p.m. ET 11/26/14.

Docket Numbers: RP15-174-000.

Applicants: Viking Gas Transmission Company.

Description: § 4(d) rate filing per 154.204: Update Statement of Rates & GT&C ?? 11, 23 & 24 per RP14-1185 Settlement Order to be effective 1/1/2015.

Filed Date: 11/14/14.

Accession Number: 20141114-5074.

Comments Due: 5 p.m. ET 11/26/14.

Docket Numbers: RP15-175-000.

Applicants: Kinetica Energy Express, LLC.

Description: § 4(d) rate filing per 154.204: Kinetica Energy Express LLC—FERC Gas Tariff—Change in GT&C—Sheet 108 to be effective 10/16/2014.

Filed Date: 11/14/14.

Accession Number: 20141114-5079.

Comments Due: 5 p.m. ET 11/26/14.

Docket Numbers: RP15-176-000.

Applicants: Discovery Gas Transmission LLC.

Description: § 4(d) rate filing per 154.403: 2015 HMRE Filing to be effective 1/1/2015.

Filed Date: 11/14/14.

Accession Number: 20141114-5080.

Comments Due: 5 p.m. ET 11/26/14.

Docket Numbers: RP15-177-000.

Applicants: Southern Natural Gas Company, L.L.C.

Description: Annual Report of Operational Transactions of Southern Natural Gas Company, L.L.C.

Filed Date: 11/14/14.

Accession Number: 20141114-5088.

Comments Due: 5 p.m. ET 11/26/14.

Docket Numbers: RP15-178-000.

Applicants: Northern Natural Gas Company.

Description: § 4(d) rate filing per 154.204: 20141114 Negotiated Rate to be effective 11/15/2014.

Filed Date: 11/14/14.

Accession Number: 20141114-5194.

Comments Due: 5 p.m. ET 11/26/14.

Docket Numbers: RP15-179-000.

Applicants: Gulf South Pipeline Company, LP.

Description: § 4(d) rate filing per 154.204: Amendment to Neg Rate Agmt (Encana 37663-26) to be effective 11/17/2014.

Filed Date: 11/17/14.

Accession Number: 20141117-5045.

Comments Due: 5 p.m. ET 12/1/14.

Docket Numbers: RP15-180-000.

Applicants: Gulf South Pipeline Company, LP.

Description: § 4(d) rate filing per 154.204: Neg Rate Agmts Filing (PAL SW 43416, 43476; Texla 43489) to be effective 11/13/2014.

Filed Date: 11/17/14.

Accession Number: 20141117-5179.

Comments Due: 5 p.m. ET 12/1/14.

Docket Numbers: RP15-181-000.

Applicants: WestGas InterState, Inc.

Description: § 4(d) rate filing per 154.204: 20141016 Compliance Filing to be effective 10/16/2014.

Filed Date: 11/17/14.

Accession Number: 20141117-5188.

Comments Due: 5 p.m. ET 12/1/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: PR12-24-002.

Applicants: Liberty Utilities (Midstates Natural Gas) Corp.

Description: Tariff filing per 284.123/.224; Clarification Filing to be effective 10/6/2014; TOFC: 790.

Filed Date: 11/10/14.

Accession Number: 20141110-5091.

Comments Due: 5 p.m. ET 12/1/14.

284.123(g) Protests Due:

Docket Numbers: RP12-130-005.

Applicants: Paiute Pipeline Company.

Description: Tariff Withdrawal per 154.205(a): Cancel Docket RP12-130-005.

Filed Date: 11/17/14.

Accession Number: 20141117-5164.

Comments Due: 5 p.m. ET 12/1/14.

Docket Numbers: RP13-673-002.

Applicants: B-R Pipeline Company.

Description: Compliance filing per 154.203: Show Cause Compliance Filing 2 to be effective 10/16/2014.

Filed Date: 11/17/14.

Accession Number: 20141117-5098.

Comments Due: 5 p.m. ET 12/1/14.

Docket Numbers: RP14-875-001.

Applicants: Florida Gas Transmission Company, LLC.

Description: Compliance filing per 154.203: Compliance with RP14-875 Order on Show Cause Filings to be effective 10/16/2014.

Filed Date: 11/13/14.

Accession Number: 20141113-5068.

Comments Due: 5 p.m. ET 11/25/14.

Docket Numbers: RP14-892-001.

Applicants: Fayetteville Express Pipeline LLC.

Description: Compliance filing per 154.203: Compliance with RP14-892 Order on Show Cause Filings to be effective 10/16/2014.

Filed Date: 11/13/14.

Accession Number: 20141113-5066.

Comments Due: 5 p.m. ET 11/25/14.

Docket Numbers: RP14-894-001.

Applicants: ETC Tiger Pipeline, LLC.

Description: Compliance filing per 154.203: Compliance with RP14-894 Order on Show Cause Filings to be effective 10/16/2014.

Filed Date: 11/13/14.

Accession Number: 20141113-5067.

Comments Due: 5 p.m. ET 11/25/14.

Docket Numbers: RP14-901-002.

Applicants: Eastern Shore Natural Gas Company.

Description: Compliance filing per 154.203: Correction of Metadata Docket No. RP14-901-001 to be effective 10/16/2014.

Filed Date: 11/14/14.

Accession Number: 20141114-5163.

Comments Due: 5 p.m. ET 11/26/14.

Docket Numbers: RP14-907-002.

Applicants: Questar Pipeline Company.

Description: Compliance filing per 154.203: Show Cause Order Amended Compliance Filing to be effective 10/16/2014.

Filed Date: 11/17/14.

Accession Number: 20141117-5002.

Comments Due: 5 p.m. ET 12/1/14.

Docket Numbers: RP14-934-003.

Applicants: Questar Southern Trails Pipeline Company.

Description: Compliance filing per 154.203: Show Cause Order Amended Compliance Filing to be effective 10/16/2014.

Filed Date: 11/17/14.

Accession Number: 20141117-5000.

Comments Due: 5 p.m. ET 12/1/14.

Docket Numbers: RP14-935-005.

Applicants: Questar Overthrust Pipeline Company.

Description: Compliance filing per 154.203: Show Cause Order Amended Compliance Filing to be effective 10/16/2014.

Filed Date: 11/17/14.

Accession Number: 20141117-5001.

Comments Due: 5 p.m. ET 12/1/14.

Docket Numbers: RP14-936-002.

Applicants: White River Hub, LLC.

Description: Compliance filing per 154.203: Show Cause Order Amended Compliance Filing to be effective 10/16/2014.

Filed Date: 11/17/14.

Accession Number: 20141117-5003.

Comments Due: 5 p.m. ET 12/1/14.

Docket Numbers: RP14-940-001.

Applicants: Venice Gathering System, L.L.C.

Description: Compliance filing per 154.203: Compliance Filing 111414 to be effective 10/16/2014.

Filed Date: 11/14/14.

Accession Number: 20141114-5219.

Comments Due: 5 p.m. ET 11/26/14.

Docket Numbers: RP14-958-001.

Applicants: Enable Mississippi River Transmission, L.

Description: Compliance filing per 154.203: Compliance Filing RP14-958 to be effective 10/16/2014.

Filed Date: 11/14/14.

Accession Number: 20141114-5172.

Comments Due: 5 p.m. ET 11/26/14.

Docket Numbers: RP14-960-001.

Applicants: Enable Gas Transmission, LLC.

Description: Compliance filing per 154.203: Compliance Filing in RP14-960-000 to be effective 10/16/2014.

Filed Date: 11/14/14.

Accession Number: 20141114-5171.

Comments Due: 5 p.m. ET 11/26/14.

Docket Numbers: RP14-961-001.

Applicants: USG Pipeline Company, LLC.

Description: Compliance filing per 154.203: Show Cause Order Compliance Filing 2 to be effective 10/16/2014.

Filed Date: 11/17/14.

Accession Number: 20141117-5099.

Comments Due: 5 p.m. ET 12/1/14.

Docket Numbers: RP14-968-001.

Applicants: Tennessee Gas Pipeline Company, L.L.C.

Description: Compliance filing per 154.203: Show Cause Order—Second Compliance Filing to be effective 10/16/2014.

Filed Date: 11/14/14.

Accession Number: 20141114-5084.

Comments Due: 5 p.m. ET 11/26/14.

Docket Numbers: RP14-971-001.

Applicants: Gulf States Transmission LLC.

Description: Compliance filing per 154.203: Compliance with RP14-971 Order to Show Cause Filings to be effective 10/16/2014.

Filed Date: 11/17/14.

Accession Number: 20141117-5221.

Comments Due: 5 p.m. ET 12/1/14.

Docket Numbers: RP14-972-001.

Applicants: Kern River Gas Transmission Company.

Description: Compliance filing per 154.203: 2014 OCSC Compliance Second Filing to be effective 12/15/2014.

Filed Date: 11/14/14.

Accession Number: 20141114-5053.

Comments Due: 5 p.m. ET 11/26/14.

Docket Numbers: RP14-975-001.

Applicants: Northern Natural Gas Company.

Description: Compliance filing per 154.203: 20141113 Compliance Filing Offers to Purchase Capacity to be effective 10/16/2014.

Filed Date: 11/13/14.

Accession Number: 20141113-5063.

Comments Due: 5 p.m. ET 11/25/14.

Docket Numbers: RP14-976-001.

Applicants: MoGas Pipeline LLC.

Description: Compliance filing per 154.203: MoGas Compliance Filing to be effective 10/16/2014.

Filed Date: 11/17/14.

Accession Number: 20141117-5097.

Comments Due: 5 p.m. ET 12/1/14.

Docket Numbers: RP14-977-001.

Applicants: East Cheyenne Gas Storage, LLC.

Description: Compliance filing per 154.203: Compliance Filing in Response to Show Cause Order to be effective 12/15/2014.

Filed Date: 11/14/14.

Accession Number: 20141114-5205.

Comments Due: 5 p.m. ET 11/26/14.

Docket Numbers: RP14-979-001.

Applicants: Dominion Transmission, Inc.

Description: Compliance filing per 154.203: DTI—November 14, 2014 Show Cause Compliance Filing to be effective 8/21/2014.

Filed Date: 11/14/14.

Accession Number: 20141114-5050.

Comments Due: 5 p.m. ET 11/26/14.

Docket Numbers: RP14-981-001.

Applicants: Dominion Cove Point LNG, LP.

Description: Compliance filing per 154.203: DCP—November 14, 2014 Show Cause Compliance Filing to be effective 10/1/2014.

Filed Date: 11/14/14.

Accession Number: 20141114-5049.

Comments Due: 5 p.m. ET 11/26/14.

Docket Numbers: RP14-982-001.

Applicants: National Fuel Gas Supply Corporation.

Description: Compliance filing per 154.203: CF_Order to Show Cause (Supply) to be effective 10/16/2014.

Filed Date: 11/14/14.

Accession Number: 20141114-5077.

Comments Due: 5 p.m. ET 11/26/14.

Docket Numbers: RP14-983-001.

Applicants: Empire Pipeline, Inc.

Description: Compliance filing per 154.203: CF Order to Show Cause (Empire) to be effective 10/16/2014.

Filed Date: 11/14/14.

Accession Number: 20141114-5051.

Comments Due: 5 p.m. ET 11/26/14.

Docket Numbers: RP14-987-001.

Applicants: Iroquois Gas Transmission System, L.P.

Description: Compliance filing per 154.203: 11/17/14—Show Cause Order RP14-442.

Filed Date: 11/14/14.

Accession Number: 20141114-5147.

Comments Due: 5 p.m. ET 11/26/14.

Docket Numbers: RP14-988-001.

Applicants: Paiute Pipeline Company.

Description: Compliance filing per 154.203: Supplemental Compliance Filing in RP14-988 to be effective 10/16/2014.

Filed Date: 11/14/14.

Accession Number: 20141114-5180.

Comments Due: 5 p.m. ET 11/26/14.

Any person desiring to protest in any of the above proceedings must file in accordance with Rule 211 of the Commission's Regulations (18 CFR 385.211) on or before 5:00 p.m. Eastern time on the specified date(s).

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2014.
Nathaniel J. Davis, Sr.,
Deputy Secretary.

[FR Doc. 2014-27825 Filed 11-24-14; 8:45 am]

BILLING CODE 6717-01-P